DEPARTMENT OF THE INTERIOR

National Park Service

[NPS-WASO-NAGPRA-NPS0027717; PPWOCRADN0-PCU00RP14.R50000]

Notice of Inventory Completion: U.S. Department of the Interior, Bureau of Indian Affairs, Washington, DC

AGENCY: National Park Service, Interior.

ACTION: Notice.

SUMMARY: The U.S. Department of the Interior, Bureau of Indian Affairs, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bureau of Indian Affairs. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bureau of Indian Affairs at the address in this notice by June 6, 2019.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC. The human remains and associated funerary objects were removed from a site on or near Black Mesa in Navajo County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the U.S. Department of the Interior, Bureau of Indian Affairs professional staff in consultation with representatives of the Navajo Nation, Arizona, New Mexico & Utah.

History and Description of the Remains

From 1967 to 1983, the Bureau of Indian Affairs (BIA) issued Antiquities Act permits authorizing excavations in the Black Mesa region of Arizona for the purpose of mining coal deposits. The Black Mesa Archaeological Project (BMAP), conducted by staff and students from Prescott College and, later, Southern Illinois University at Carbondale (SIU), gathered archeological and anthropological data on Black Mesa. Initially, the collections were housed at Prescott College. In 1974, Prescott College declared bankruptcy and closed. In 1976, after being housed at Fort Lewis College in Durango, CO, for one year, the BMAP collections and records were transferred to SIU. In October 2018, the BMAP cultural items were transferred to the Museum of Northern Arizona in Flagstaff.

In September 1969, human remains representing, at minimum, one individual were removed from a site on or near Black Mesa in Navajo County, AZ. The individual removed during the excavation, Many Mules, was reburied in a cemetery in Fort Defiance, AZ. In 2018, research on the collection of BMAP cultural items at SIU revealed fragmentary human remains belonging to Many Mules. The 122 associated funerary objects include leather and cloth fragments, beads, pendants, buttons, large mammal bones, and saddle parts.

Documentary evidence shows that all the associated funerary objects were removed from the burial of Many Mules, who was an enrolled member of the Navajo Nation, Arizona, New Mexico & Utah. Consultation with the Navajo Nation, Arizona, New Mexico & Utah provided further confirmation.

Determinations Made by the U.S. Department of the Interior, Bureau of Indian Affairs

Officials of the U.S. Department of the Interior, Bureau of Indian Affairs have determined that:

• Pursuant to 25 U.S.C. 3001(9), the human remains described in this notice represent the physical remains of one individual of Native American ancestry.

• Pursuant to 25 U.S.C. 3001(3)(A), the 122 objects described in this notice are reasonably believed to have been placed with or near individual human remains at the time of death or later as part of the death rite or ceremony.

• Pursuant to 25 U.S.C. 3001(2), there is a relationship of shared group identity that can be reasonably traced between the Native American human remains and associated funerary objects and the Navajo Nation, Arizona, New Mexico & Utah.

Additional Requestors and Disposition

Lineal descendants or representatives of any Indian Tribe or Native Hawaiian organization not identified in this notice that wish to request transfer of control of these human remains and associated funerary objects should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by June 6, 2019. After that date, if no additional requestors have come forward, transfer of control of the human remains and associated funerary objects to the Navajo Nation, Arizona, New Mexico & Utah may proceed.

The U.S. Department of the Interior, Bureau of Indian Affairs is responsible for notifying the Navajo Nation, Arizona, New Mexico & Utah that this notice has been published.

Dated: April 16, 2019.
Melanie O'Brien,
Manager, National NAGPRA Program.

[FR Doc. 2019-09303 Filed 5-6-19; 8:45 am]

BILLING CODE 4312-52-P